DEPARTMENT OF TRANSPORTATION

Federal Aviation Administration

Notice of Intent To Rule on Request To Release Airport Property at the Laredo International Airport (LRD), Laredo, TX

AGENCY: Federal Aviation Administration (FAA), DOT.

ACTION: Notice of request to release airport property.

SUMMARY: The FAA proposes to rule and invite public comment on the release of land at the Laredo International Airport under the provisions of the Federal Property and Administrative Services Act of 1949, and the Surplus Property Act of 1944.

DATES: Comments must be received on or before January 3, 2025.

ADDRESSES: Comments on this application may be mailed or delivered to the FAA at the following address: Mr. Rodney Clark, Manager, Federal Aviation Administration, Southwest Region, Airports Division, Texas Airports Development Office, ASW-650, Fort Worth, Texas 76177.

In addition, one copy of any comments submitted to the FAA must be mailed or delivered to Gilberto Sanchez, Airport Director, at the following address: 5210 Bob Bullock Loop, Laredo, TX 78041.

FOR FURTHER INFORMATION CONTACT: Mr. Sean Newton, Program Manager, Federal Aviation Administration, Texas Airports Development Office, ASW-650, 10101 Hillwood Parkway, Fort Worth, Texas 76177. Telephone: (817) 222-5560. Email: Sean.A.Newton@FAA.gov. Fax: (817) 222-5989.

SUPPLEMENTARY INFORMATION: The Laredo International Airport is under the provisions of the Federal Property and Administrative Services Act of 1949, and the Surplus Property Act of 1944.

The following is a brief overview of the request:

The City of Laredo requests the release of 7.498 acres of airport land located at approximately 5210 Bob Bullock Loop, Laredo, TX 78041. The land was acquired by Indenture of the Federal Property and Administrative Services Act of 1949, and the Surplus Property Act of 1944. The property to be released will be sold to Texas Department of Transportation for US Highway 59 right-of-way improvements. The proceeds of the sale will benefit civil aviation through airport improvements.

Any person may inspect the request in person at the FAA office listed above under FOR FURTHER INFORMATION CONTACT.

In addition, any person may, upon request, inspect the application, notice and other documents relevant to the application in person at the City of Laredo Legal Department, telephone number (956) 791-7318.

Issued in Fort Worth, Texas, on November 14, 2024.
Ignacio Flores,
Director, Office of Airports Southwest Region.

[FR Doc. 2024-28301 Filed 12-3-24; 8:45 am]

BILLING CODE 4910-13-P